DEPARTMENT OF TRANSPORTATION

Federal Highway Administration

Notice of Extension of Public Comment Period for the Cross Harbor Freight Program, Tier 1 Draft Environmental Impact Statement

AGENCY: Federal Highway Administration (FHWA), DOT.

ACTION: Notice; Extension of public comment period.

SUMMARY: The FHWA and the Port Authority of New York and New Jersey (PANYNJ) are extending the public comment period for the Cross Harbor Freight Program Tier 1 Draft Environmental Impact Statement (DEIS) until Friday, March 20, 2015.

DATES: Comments on the Tier 1 DEIS should be received no later than Friday, March 20, 2015.

FOR FURTHER INFORMATION CONTACT: Mark Hoffer, Port Authority of New York and New Jersey, (212) 435-7276, or Jonathan McDade, Federal Highway Administration—NY Division (518) 431-4127.

You may also visit the Project Web site: www.crossharborstudy.com.

ADDRESSES: Comments on the Tier 1 DEIS can be mailed to the following address: Cross Harbor Freight Program; c/o InGroup, Inc.; P.O. Box 206, Midland Park, NJ 07432; submitted via email to: crossharborstudy@ingroupinc.com; or provided as oral or written testimony at the public hearings.

SUPPLEMENTARY INFORMATION:

Electronic Access

An electronic copy of this document may be downloaded from the Federal Register home page at: http://www.archives.gov and the Government Publishing Office's database at: http://www.access.gpo.gov/nara.

Background

On November 21, 2014, the FHWA published in the Federal Register notice of the availability of the Tier 1 DEIS at 79 FR 68242. That Federal Register notice listed February 27, 2015, as the end date for the comment period. Due to severe weather conditions throughout the project area, four public hearings were rescheduled. Accordingly, the FHWA and the PANYNJ are extending the public comment period for the Cross Harbor Freight Program Tier 1 DEIS until Friday, March 20, 2015.

The comprehensive public hearing schedule, the DEIS, and list of DEIS repositories are available on the project Web site: www.crossharborstudy.com.

Extended Deadline for Public Comment Period: Comments on the Tier 1 DEIS should be received no later than Friday, March 20, 2015.

Joseph Ehrlich,
Principal Transportation Planner, Port Authority New York and New Jersey.
Michael Canavan,
Chief Operating Officer, NY Division of FHWA/USDOT.

[FR Doc. 2015-05243 Filed 3-6-15; 8:45 am]

BILLING CODE 4910-22-P